DEPARTMENT OF AGRICULTURE

Forest Service

Payette National Forest, Idaho; Paddy Flat Vegetation Management Project

AGENCY: Forest Service, USDA.

ACTION: Notice of intent to prepare an environmental impact statement.

SUMMARY: The USDA Forest Service will prepare the Paddy Flat Vegetation Management Project EIS. The proposed action in the EIS is to harvest timber and to do timber stand improvement in stands in the Paddy Flat Subdivision. The Payette National Forest invites written comments and suggestions on the scope of the analysis and the issues to address. The agency gives notice of the full National Environmental Policy Act (NEPA) analysis and decision-making process so that interested and affected people know how they may participate and contribute to the final decision.

DATES: Comments need to be received by March 29, 2004.

ADDRESSES: Send written comments to mark J. Madrid, Forest Supervisor, Payette National Forest, P.O. Box 1026, McCall, Idaho, 83638.

FOR FURTHER INFORMATION CONTACT: Questions about the proposed action should be directed to Dan Anderson, Interdisciplinary Team Leader, at the above address, phone (208) 634-0400.

SUPPLEMENTARY INFORMATION: The Paddy Flat project area is located in the Kennally Creek sub-watershed on the McCall Ranger District. It is about 16 miles southeast of McCall, and approximately 6,700 acres in size. The purpose and need for this activity is to (1) move stands toward the desired condition in the Forest Plan for vegetation and (2) reduce the potential for uncharacteristic and/or undesired fire and create conditions that in the case of wildfire will tend toward a lower risk surface fire on National Forest System lands surrounding the Paddy Flat Subdivision.

The proposed action includes a variety of activities to meet the purpose and need. (1) Harvest timber on approximately 594 acres, producing approximately 6.3 million board feet (MMBF) of wood products, using tractor, jammer, and skyline logging systems. The silvicultural methods used would be shelterwood w/reserve tree, clearcut w/reserve tree, intermediate treatment, and improvement cut. (2) Excavator pile and burn approximately 488 acres, jackpot pile and burn approximately 14 acres, broadcast burn approximately 82 acres, and lop and scatter activity fuels on approximately 10 acres. (3) Regenerate by planting with seral species approximately 452 acres. (4) Reduce overall road density and reduce impacts to water quality in the project area by decommissioning approximately 18.0 miles of unneeded roads. (5) Build approximately 2.7 miles of new road to facilitate timber harvest. (6) Thin approximately 1,078 acres of plantations to reduce competition and increase growth. (7) Reduce the potential for uncharacteristic and/or undesirable fire by reducing the density in plantations and reducing the crown density of live trees and numbers of dead trees on National Forest System lands in proximity to the Paddy Flat Subdivision.

Preliminary issues for this project include effects on water quality, soil productivity, wildlife habitat, and access management.

A range of reasonable alternatives will be considered. The no-action alternative will serve as a baseline for comparison of alternatives. The proposed action will be considered along with additional alternatives developed that meet the purpose and need and address major issues identified during scoping. Alternatives may have different amounts, locations, and types of project activities.

Comments received in response to this notice, including names and addresses of those who comment, will be part of the project record and available for public review.

The Forest Service is seeking information and comments from other Federal, State, and local agencies; Tribal governments; organizations; and individuals who may be interested in or affected by the proposed action. This input will be used in preparation of the EIS.

Comments will be appreciated throughout the analysis process. The comment period on the draft EIS will be 45 days from the date the Environmental Protection Agency publishes the notice of availability in the Federal Register. It is important that those interested in the management of the Payette National Forest participate at that time.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waives or dismissed by the courts. City of Angoon v. Hodel, 803 F.2d 1016, 1002 (9th Cir. 1986) and Wisconsin Heritages, Inc. v. Harris, 490 F. Supp. 1334, 1338 (E.D. Wis. 1980). Because of these court rulings, it is important that those interested in this proposed action participate by the close of the 45 day comment period so that substantive comments and objections are made available to the Forest Service at a time when it can meaningfully consider them and respond to them in the final environmental impact statement.

To assist the Forest Service in identifying and considering issues raised by the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

After the 45-day comment period ends on the draft EIS, the Forest Service will analyze comments received and address them in the final EIS. The final EIS is scheduled to be completed in 2004. The Responsible Official is the Payette National Forest Supervisor. The decision will be documented, including the rationale for the decision, in a Record of Decision (ROD). The decision will be subject to review under the Forest Service administrative appeal regulations at 36 CFR 215.

Dated: February 18, 2004.
Mark M. Madrid,
Forest Supervisor.

[FR Doc. 04-3907 Filed 2-23-04; 8:45 am]

BILLING CODE 3410-11-M